DEPARTMENT OF COMMERCE

National Oceanic and Atmospheric Administration

[RTID 0648-XB262]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Commercial Fisheries Research Foundation contains all of the required information and warrants further consideration. Regulations under the Magnuson-Stevens Fishery Conservation and Management Act require publication of this notification to provide interested parties the opportunity to comment on applications for proposed Exempted Fishing Permits.

DATES: Comments must be received on or before August 16, 2021.

ADDRESSES: You may submit written comments by the following method:

• Email: nmfs.gar.efp@noaa.gov. Include in the subject line “Commercial Fisheries Research Foundation N-Viro Dredge EFP.”

FOR FURTHER INFORMATION CONTACT: Shannah Jaburek, Fishery Management Specialist, shannah.jaburek@noaa.gov, (978) 281-9135.

SUPPLEMENTARY INFORMATION: The Commercial Fisheries Research Foundation (CFRF) submitted a complete application for an Exempted Fishing Permit (EFP) to conduct commercial fishing activities that the Atlantic Sea Scallop Fishery Management Plan regulations would otherwise restrict. This EFP would exempt the participating vessels from: Observer program requirements at 50 CFR 648.11; days-at-sea (DAS) requirements at § 648.53; crew size restrictions at § 648.51(c); scallop fishing restrictions in Closed Area II—East at § 648.59(b)(2) and (g)(1); scallop trawl and dredge gear restrictions at § 648.51; and minimum size and possession restrictions for onboard sampling and scallop transplanting in § 648 subparts B and D through O.

The project was funded as part of the 2021 Atlantic Sea Scallop Research Set-Aside (RSA) Program, and is the second phase of a project funded by the 2019 Scallop RSA Program. This project would compare scallop catch rates, bycatch rates, and fuel savings from new designs of the N-Viro dredge to the standard New Bedford style dredge, as well as the version of the N-Viro dredge used in the 2019 study.

Experimental fishing will take place on four limited access general category (LAGC) vessels and one limited access (LA) scallop vessel. The LAGC vessels will target a total of 90 60-minute tows using the N-Viro dredge in Statistical Areas 537, 539, and 611 over approximately 12 days of fishing. The LA vessel will conduct one, 6-day trip in Closed Area II—East. This area has a large population of small scallops and would allow for testing the effects of the N-Viro dredge on small scallop bycatch. The LA vessel will conduct 90 paired tows using the N-Viro dredge and a standard New Bedford dredge. Forty-five tows will be at the optimal speed for the N-Viro dredge, and 45 tows at the optimal speed for the New Bedford dredge.

The N-Viro dredge design will vary slightly between the LAGC and LA vessels participating in the project. For the LAGC vessels, the dredge will consist of a tow bar with four small dredges attached, while the LA vessel will use six small dredges attached to a tow bar. CFRF may test several modifications to the small dredge on the LAGC, including: (1) Increasing the number of tines on each frame from 9 to 12; (2) adding a pressure plate to the frame opening; (3) substituting a cutting bar in place of the adjustable tine bar on the dredge frames; (4) changing the twine top hang ration and attachment points; (5) moving a set of float cans to the front of the bag; (6) removing chain links between tow bar and individual frames to change frame tow angles; and (7) adding rubber chafing gear. Two of the small dredges will be standard. Results from the LAGC portion of the research will inform the design of the dredge used on the LA vessel.

Researchers from CFRF would accompany each trip taken under the EFP and direct all sampling activities. On all vessels, catch will be sorted into baskets after each tow. On LAGC vessels, catch from the standard and modified N-Viro dredges will be kept separate. On the LA vessel, catch from the N-Viro dredge and New Bedford dredge will be kept separate. The total number and weight of scallops and rocks will be recorded. Sub-legal scallops will then be separated from legal scallops, and both categories will be counted and weighed. A random subsample of each will be measured. All incidental catch will identified to the species level, and will be counted, weighed, and measured.

On the LAGC trips, scallop catch would be kept for sale in accordance with current regulations. On the LA trips, catch would not be landed for sale unless the vessel has used 2021 Scallop RSA quota.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 27, 2021.
Jennifer M. Wallace,
Acting Director, Office of Sustainable Fisheries, National Marine Fisheries Service.

[FR Doc. 2021-16292 Filed 7-29-21; 8:45 am]

BILLING CODE 3510-22-P